DEPARTMENT OF THE INTERIOR

Fish and Wildlife Service

[FWS-R5-R-2009-N208; BAC-4311-K9-S3]

Draft Comprehensive Conservation Plan and Environmental Assessment; Canaan Valley National Wildlife Refuge, Tucker County, WV

AGENCY: Fish and Wildlife Service, Interior.

ACTION: Notice of availability; request for comments.

SUMMARY: We, the U.S. Fish and Wildlife Service (Service), announce the availability of the draft comprehensive conservation plan (CCP) and draft environmental assessment (EA) for Canaan Valley National Wildlife Refuge (NWR) for a 45-day public review and comment period. The draft CCP/EA describes four alternatives, including our Service-preferred alternative B, for managing this refuge for the next 15 years. Also available for public review and comment are the draft compatibility determinations, which are included as appendix B in the draft CCP/EA.

DATES: To ensure our consideration of your written comments, please send them by July 16, 2010. We will also hold public meetings. We will announce and post details of the public meetings in local news media, via our project mailing list, and on our regional planning Web site, http://www.fws.gov/northeast/planning/Canaan%20Valley/ccphome.html.

ADDRESSES: Send your comments or requests for copies of the draft CCP/EA by one of the following methods. You may also drop off comments in person at Canaan Valley NWR, located off Route 32 in Davis, West Virginia.

U.S. Mail: Beth Goldstein, Natural Resource Planner, U.S. Fish and Wildlife Service, 300 Westgate Center Drive, Hadley, MA 01035.

Facsmile: Attention: Beth Goldstein, 413-253-8468.

Electronic Mail: northeastplanning@fws.gov. Include “Canaan Valley NWR CCP” in the subject line of your e-mail.

Agency Web Site: View or download the draft document on the Web at http://www.fws.gov/northeast/planning/Canaan%20Valley/ccphome.html.

FOR FURTHER INFORMATION CONTACT: Jonathan Schafler, Refuge Manager, Canaan Valley NWR, HC 70, P.O. Box 200, Davis, WV 26260; phone: 304-866-3858; facsimile: 304-866-3852; electronic mail: fw5rw_cvnwr@fws.gov.

SUPPLEMENTARY INFORMATION:

Introduction

This notice continues the CCP process for Canaan Valley NWR. We prepared the draft CCP in compliance with the National Environmental Policy Act of 1969, as amended (NEPA) (42 U.S.C. 4321 et seq.), and the National Wildlife Refuge System Administration Act of 1966 (Administration Act), as amended by the National Wildlife Refuge System Improvement Act of 1997 (Improvement Act), which requires us to develop a CCP for each national wildlife refuge. We published our original notice of intent to prepare a CCP in the Federal Register on January 22, 2007 (72 FR 2709).

The 16,183-acre Canaan Valley NWR was established in 1994 to conserve and protect fish and wildlife resources and the unique wetland and upland habitats of this high elevation valley. The refuge is located in Tucker County, West Virginia, and has an approved acquisition boundary of 24,000 acres. It includes the largest wetland complex in the State, and encompasses the headwaters of the Blackwater and Little Blackwater rivers. The refuge supports species of concern at both the Federal and State levels, including the West Virginia northern flying squirrel, bald eagle, and the Federal listed Cheat Mountain salamander and Indiana bat. Its dominant habitats include wet meadows, peatlands, shrub and forested swamps, beaver ponds and streams, northern hardwood forest, old fields and shrubland, and managed grassland.

Refuge visitors engage in wildlife observation and photography, environmental education, interpretation, hunting, and fishing. Management activities include maintaining and perpetuating the ecological integrity of the Canaan Valley wetland complex; perpetuating the ecological integrity of upland northern hardwood and northern hardwood-conifer forests to sustain wildlife and plant communities; providing a diversity of successional habitats in upland and wetland-edge shrublands, grasslands, old fields, and hardwood communities; and supporting wildlife-dependent recreation and education.

Background

The CCP Process

The purpose for developing CCPs is to provide refuge managers with 15-year plans for achieving refuge purposes and the mission of the National Wildlife Refuge System, in conformance with sound principles of fish and wildlife management and conservation, legal mandates, and Service policies. In addition to outlining broad management direction on conserving wildlife and their habitats, CCPs identify opportunities for wildlife-dependent recreation available to the public, which includes opportunities for hunting, fishing, observing and photographing wildlife, and participating in environmental education and interpretation programs. We will review and update each CCP at least every 15 years, in accordance with the Administration Act.

Public Outreach

In September 2006, we distributed an issues workbook/planning newsletter to more than 2,000 names on our mailing list, asking people about their interest in the refuge and whether they had issues or concerns they would like us to address. We also posted the newsletter and workbook online for people to complete electronically, and we electronically mailed it to our stakeholder's mailing list, which was developed with help from the U.S. Geological Survey. In October 2006 and January 2007, we held public scoping meetings in Elkins, Parsons, Thomas, and Davis, West Virginia. The purposes of those meetings was to share information on the planning process, review the workbook results, and solicit new management issues and concerns. Throughout the process, we have conducted additional outreach via participation in community meetings, events, and other public forums, and requested public input on managing the refuge and its programs.

Some key issues expressed by the public included:

• Create trail connections on- and off-refuge;

• Allow multiple recreational uses on refuge trails while minimizing user conflicts;

• Increase opportunities for interpretation and education by providing more guided walks, programs, and brochures;

• Re-route existing trails to decrease erosion;

• Evaluate the refuge for wilderness designation;

• Improve woodcock habitat by cutting alder and aspen, and by grazing shrublands;

• Provide more opportunities for hunting;

• Reduce or eliminate hunting on the refuge; and

• Allow more vehicle access for deer hunting.

CCP Actions We Are Considering, Including the Service-Preferred Alternative

We developed four management alternatives based on the purposes for establishing the refuge, its vision and goals, and the issues and concerns of the public, State agencies, and the Service that arose during the planning process. The alternatives share some actions in common, such as protecting wetlands and rare plant communities, controlling invasive plant species, addressing climate change, protecting cultural resources, distributing refuge revenue sharing payments, and continuing our role in land conservation partnerships.

The draft CCP/EA describes the alternatives in detail and relates them to the issues and concerns. Highlights follow.

Alternative A (Current Management)

This alternative is the “No Action” alternative required by NEPA. Alternative A defines our current management activities, including those planned, funded, or underway, and serves as the baseline against which to compare the other three action alternatives. It would maintain our present level of approved refuge staffing and the biological and visitor services programs now in place. It would continue the following priorities of the biological program: Shrubland and grassland management for migratory birds; protection and monitoring of threatened and endangered species; red spruce and balsam fir community restoration; upland and wetland habitat restoration; invasive plant monitoring and eradication; and rare plant and animal conservation. We would continue efforts to protect the federally threatened Cheat Mountain salamander, the federally endangered Indiana bat, and the recently delisted West Virginia northern flying squirrel by monitoring known populations, inventorying suitable habitat for new populations, and researching habitat limitations. We would continue to offer a hunt program that is in accordance with State seasons. We would maintain current access sites for fishing and boating, and current trails for wildlife observation and photography. We would continue to offer our current level of environmental education and interpretation programs as staffing and funding allows. Finally, we would continue to collaborate with partners to promote the natural resources of Canaan Valley through outreach and public awareness.

Alternative B (Emphasis on Focal Species)

This alternative represents the combination of actions we believe most effectively achieves the purposes and goals of the refuge and would make an important contribution to conserving Federal trust resources in West Virginia and the central Appalachians. It is the alternative that would most effectively provide low-impact wildlife-dependent recreation and would address the significant issues in Chapter 1 of the draft CCP/EA. It builds on the programs identified under current management. It is designed to balance the conservation of a mixed-forest matrix landscape with the management of early successional habitats and the protection of wetlands. The habitat-type objectives in the plan identify focal species whose life and growth requirements would guide management activities in each respective habitat. Alternative B addresses the refuge's mandate to consider managing refuge habitat under the Biological Integrity, Diversity and Environmental Health Policy (601 FW 3). Also in this alternative, we would designate 754 acres of the refuge's central wetland complex as a Research Natural Area.

The hunt program would remain the same as alternative A, except we would facilitate the removal of more deer from the refuge by providing more access into the interior of the refuge and by opening more land to rifle hunting. We would officially open the refuge to fishing by amending 50 CFR 32.68 and would promote fishing opportunities. For increased wildlife observation and photography, the refuge would create more trail connections. We would also expand visitor center hours, build a new environmental education pavilion, and increase the number of environmental education and interpretation programs. We expect a 15 percent increase in visitation under this alternative. To fully implement alternative B, we would add 3.5 positions to the Canaan Valley NWR staff, for a total of 12.5 positions.

Alternative C (Emphasis on Expanding Priority Public Uses)

In alternative C, we would increase access and infrastructure to support more priority public uses than any of the other alternatives. We would create a cross-valley trail that would run east-west through the northern part of the valley, and we would allow limited off-trail use in a designated area. With these improvements in the public use programs, we expect refuge visitation to increase by 20 percent. With an increase in public access and infrastructure development, we anticipate a greater need for monitoring and control of invasive plants. We would also encourage additional research that would assess whether increased public use affects wildlife behavior, including nesting, feeding, and resting. We therefore propose in this alternative to have a staff of 13.5, compared to a staff of 12.5 in alternative B.

Within the biological objectives, differences are more subtle and emphasize early successional habitat management over forest stand improvement. Although the Biological Integrity and Diversity Policy would still guide some management of the forested and unique wetland plant communities, this management would mostly be in the form of protection and conservation rather than restoration. The Research Natural Area in this alternative would be 593 acres, compared with 754 acres in alternative B.

Alternative D (Emphasis on Managing for Historic Habitats)

This alternative strives to establish and maintain the ecological integrity of natural communities within the refuge. Management would range from passive, or “letting nature takes its course,” to actively manipulating vegetation to create or hasten the development of mature forest structural conditions shaped by natural disturbances such as infrequent fires, ice storms, and small patch blow-downs. Under this alternative, no particular wildlife species would be a management focus. We would pursue wetland restoration projects where past land uses have altered historical plant communities or have hindered natural hydrological flow. We would also promote research and development of applied management practices to sustain and enhance the natural composition, patterns, and processes within their natural range in the Central Appalachian Forest. As in the other alternatives, we would ensure protection of current or future threatened and endangered species, and we would control the establishment and spread of non-native, invasive species. We would create the same 754-acre Research Natural Area as we would in alternative B.

In alternative D, we would limit new visitor services infrastructure to already-disturbed areas, such as around the refuge headquarters and visitor center facility, the Freeland tract, and roadside pullouts along A-frame Road. We would enhance hunting and fishing opportunities in ways similar to alternatives B and C. Under this alternative, we would expect a 10 percent increase in visitor use, which is the same as alternative A. To fully implement this alternative, we would add 2.5 positions to the Canaan Valley staff for a total of 11.5 positions. One of these would be a law enforcement officer to help enforce stricter limitations on visitor use.

Public Meetings

We will give the public opportunities to provide input at public comment meetings. You can obtain the schedule from the project leader or natural resource planner (see addresses or FOr Further Information CONTACT, above). You may also submit comments at any time during the planning process, by any means shown in the ADDRESSES section.

Public Availability of Comments

Before including your address, phone number, e-mail address, or other personal identifying information in your comments, you should be aware that your entire comment—including your personal identifying information—may be made publicly available at any time. While you can ask us in your comment to withhold your personal identifying information from public review, we cannot guarantee that we will be able to do so.

Dated: April 26, 2010.
James G. Geiger,
Acting Regional Director, U.S. Fish and Wildlife Service, Hadley, MA.

[FR Doc. 2010-12998 Filed 5-28-10; 8:45 am]

BILLING CODE 4310-55-P